DEPARTMENT OF THE INTERIOR

Bureau of Indian Affairs

[190A2100DD/AAKC001030/A0A501010.999900 253G; OMB Control Number 1076-0141]

Agency Information Collection Activities; Renewal of Agency Information Collection for Water Request

AGENCY: Bureau of Indian Affairs, Interior.

ACTION: Notice of information collection; request for comment.

SUMMARY: In accordance with the Paperwork Reduction Act of 1995, we, the Bureau of Indian Affairs (BIA) are seeking comments on the renewal of Office of Management and Budget (OMB) approval for the collection of information for the updated Request for Irrigation Services authorized by OMB Control Number 1076-0141. The current information collection expires June 30, 2019. Supplementing the Request for Irrigation Services in this renewal of information collection are the Request for Customer Information, Annual Assessment Waiver, Incentive Agreement, and Land Classification/Designation applications.

DATES: Interested persons are invited to submit comments on or before June 3, 2019.

ADDRESSES: Send your comments on this information collection request (ICR) by mail to the Yulan Jin, Chief, Division of Water and Power, Office of Trust Services, Mail Stop 4655—MIB, 1849 C Street NW, Washington, DC 20240; telephone: (202) 219-0941; or by email to yulan.jin@bia.gov. Please reference OMB Control Number 1076-0141 in the subject line of your comments.

FOR FURTHER INFORMATION CONTACT: To request additional information about this ICR, contact Yulan Jin by email at yulan.jin@bia.gov, or by telephone at (202) 219-0941.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BIA owns, operates, and maintains 17 irrigation projects that provide a service to the end user. To properly bill for the services provided, the BIA must collect customer information to identify the individual responsible for repaying the government the costs of delivering the service; determine eligibility for waiver of fees; and determine designation of irrigable lands as assessable or non-assessable. Additional information necessary for providing the service is the location of the service delivery and the number of serviced acres. The Debt Collection Improvement Act of 1996 (DCIA) requires that certain information be collected from individuals and businesses doing business with the government. This information includes the taxpayer identification number for possible future use to recover delinquent debt. To implement the DCIA requirement to collect customer information, the BIA has included a section concerning the collection of information in its regulations governing its irrigation projects (25 CFR 171).

Title of Collection: Water Request.

OMB Control Number: 1076-0141.

Form Number: BIA-DWP-Irr-101; BIA-DWP-Irr-102; BIA-DWP-Irr-103; BIA-DWP-Irr-104; BIA-DWP-Irr-105.

Type of Review: Revision of a currently approved collection.

Respondents/Affected Public: Water users of BIA irrigation project—individual and businesses.

Total Estimated Number of Annual Respondents: 7,500.

Total Estimated Number of Annual Responses: 34,906.

Estimated Completion Time per Response: A range of 1 minute to 6 hours, depending on the specific service being requested.

Total Estimated Number of Annual Burden Hours: 17,943 hours.

Respondent's Obligation: Responses are required to receive or maintain a benefit.

Frequency of Collection: On occasion through the irrigation season, averaging approximately two times per year.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2019-06504 Filed 4-3-19; 8:45 am]

BILLING CODE 4337-15-P